DEPARTMENT OF TRANSPORTATION

Federal Aviation Administration

[Docket No. FAA-2007-28041]

Notice of Availability and Public Comment Period for the Draft Air Quality General Conformity Determination (DGCD) for Proposed Operations of Lynx Aviation, Inc. at Denver International Airport, Denver, CO

AGENCY: Federal Aviation Administration (FAA), Department of Transportation (DOT).

ACTION: Notice of availability of the Draft Air Quality General Conformity Determination and notice of public comment period.

SUMMARY: The FAA is issuing this notice to advise the public that FAA has prepared a Draft Air Quality General Conformity Determination (DGCD) for Proposed Operations of Lynx Aviation, Inc. (Lynx Aviation) at Denver International Airport (DEN) and to request comments from the public on the DGCD. In accordance with Section 176(c) of the Clean Air Act, FAA has assessed whether the emissions that would result from FAA's action in approving the proposed operation specifications (OPSPECS) for Lynx Aviation's proposed operations at DEN conform to the applicable Colorado State Implementation Plans (SIPs). The DGCD contains this assessment.

DATES: Submit comments on or before August 20, 2007.

ADDRESSES: Interested parties may view hard copies of the document in Denver, Monday through Friday, from 8 a.m. to 4 p.m. Mountain Daylight Time at Environmental Services Section, Department of Aviation, City and County of Denver, Elrey B. Jeppesen Terminal Building, Level 6, Room 6619-20, 8400 Peña Boulevard, Denver, CO 80249. Please contact Ms. Aimee Fenlon at 303-342-2636 for appointments.

To request mailed hard copies of the Draft GCD, contact Mr. Dennis Harn, Operations Specialist, Safety Evaluation and Analysis Branch, ANM-240, FAA Northwest Mountain Region Headquarters, 1601 Lind Ave., SW., Suite 560, Renton, WA 98057; telephone: 425-227-2560; e-mail: Dennis.Harn@faa.gov.

The DGCD is also available for review electronically on the Department of Transportation's Docket Management System (DMS) at http://dms.dot.gov/. Do a simple search for docket number 28041.

You may submit comments, identified by docket number FAA-2007-28041, by any of the following methods:

1. By mail to: Docket Management Facility, U.S. Department of Transportation, 1200 New Jersey Avenue, SE., Washington, DC 20590-0001.

2. By hand delivery to Docket Management Facility, 1200 New Jersey Avenue, SE., Washington, DC, between 9 a.m. and 5 p.m., Monday through Friday, except Federal holidays;

3. By fax to the Docket Management Facility at 202-493-2251; or

4. By electronic submission through the DMS Web site at http://dms.dot.gov/submit/. See SUPPLEMENTARY INFORMATION for additional information about electronic filing.

FOR FURTHER INFORMATION CONTACT: Mr. Dennis Harn, telephone: 425-277-2560; e-mail; Dennis.Harn@faa.gov.

SUPPLEMENTARY INFORMATION: The Denver Metropolitan Area is an EPA-designated attainment/maintenance area for the criteria pollutants carbon monoxide, particulate matter with aerodynamic diameter of 10 micrometers or less (PM10), and ozone (1-hour standard). In addition, DEN is located in an Early Action Compact area for the 8-hour ozone standard.

The FAA demonstrates in the DGCD that the sum of the existing aircraft operations at DEN plus the proposed aircraft operations by Lynx Aviation is below the forecast values incorporated into the State Implementation Plan (SIP), and therefore aircraft emissions attributed to flights by Lynx Aviation are already accounted for in the SIP emissions inventories. As a result, the FAA can demonstrate that the proposed action conforms to the SIP.

Comment Filing Instructions

All submissions received must include the agency name and docket number or Regulatory Information Number (RIN).

You may submit comments electronically through the DMS Web site at http://dms.dot.gov/submit/. You have the option of submitting comments either by typing your comment into the DMS or by uploading a previously completed comment document as a file. If you upload a file it must be in one of the following file format types: MS Word (Versions 95-97); MS Word for Mac (Versions 6-8); Rich Text File (RTF); American Standard Code Information Interchange (ASCII) (TXT); Portable Document Format (PDF); or Word Perfect (WPD) (Versions 7-8). See the Electronic Submission Help and Guidelines screen at http://dms.dot.gov/help/es_help.cfm for additional guidance.

The FAA will accept comments on the DCGD until August 20, 2007. Written comments must be postmarked and electronic submissions received by not later than midnight, August 20, 2007. After FAA reviews and addresses all comments, FAA will publish a notice of availability of the Final General Conformity Determination.

Issued in Washington, DC on July 16, 2007.
John M. Allen,
Acting Director, Flight Standards Service.

[FR Doc. 07-3540 Filed 07-19-07; 8:45 am]

BILLING CODE 4910-13-M